DEPARTMENT OF HOMELAND SECURITY

Federal Emergency Management Agency

[Docket ID FEMA-2014-0002; Internal Agency Docket No. FEMA-B-1432]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Delaware: New Castle | Unincorporated areas of New Castle County (13-03-2557P) | The Honorable Thomas P. Gordon, New Castle County, Executive, 87 Reads Way, New Castle, DE 19720 | New Castle County Government Center, Land Use Department, 87 Reads Way, New Castle, DE 19720 | http://www.msc.fema.gov/lomc | Nov. 14, 2014 | 105085
Minnesota:
Steele | City of Owatonna (14-05-4257P) | The Honorable Thomas Kuntz Mayor, City of Owatonna 540 West Hills Circle Owatonna, MN 55060 | City Administration Building 540 West Hills Circle Owatonna, MN 55060 | http://www.msc.fema.gov/lomc | Nov. 12, 2014 | 270463
Steele | Unincorporated areas of Steele County (14-05-4257P) | Mr. Tom Shea, Steele County Administrator, P.O. Box 890, Owatonna, MN 55060 | Steele County Planning and Zoning Department, 630 Florence Avenue, Owatonna, MN 55060 | http://www.msc.fema.gov/lomc | Nov. 12, 2014 | 270635
New York: Onondaga | Town of Cicero (13-02-1264P) | The Honorable Jessica Zambrano, Supervisor, Town of Cicero, 8236 Brewerton Road, Cicero, NY 13039 | Town Hall, 8236 Brewerton Road, Cicero, NY 13039 | http://www.msc.fema.gov/lomc | Dec. 9, 2014 | 360572
Oklahoma:
Carter | City of Ardmore (13-06-4203P) | The Honorable Bob Geurin, Mayor, City of Ardmore, P.O. Box 249, Ardmore, OK 73402 | Developmental Services Department, 23 South Washington Street, Ardmore, OK 73401 | http://www.msc.fema.gov/lomc | Oct. 17, 2014 | 400031
Tulsa | City of Owasso (13-06-0281P) | The Honorable Jeri Moberly, Mayor, City of Owasso, 111 North Main Street, Owasso, OK 74055 | City Municipal Building, 111 North Main Street, Owasso, OK 74055 | http://www.msc.fema.gov/lomc | Oct. 24, 2014 | 400210
Tulsa | Unincorporated areas of Tulsa County (13-06-0281P) | The Honorable Ron Peters, Chairman, Tulsa County Board of Commissioners, 500 South Denver Avenue, Tulsa, OK 74103 | Tulsa County Administration Building, 500 South Denver Avenue, Tulsa, OK 74103 | http://www.msc.fema.gov/lomc | Oct. 24, 2014 | 400462
Pennsylvania:
Mercer | Borough of Sharpsville (14-03-2041P) | Mr. Kenneth P. Robertson, Manager, Borough of Sharpsville, 1 South Walnut Street, Sharpsville, PA 16150 | 1 South Walnut Street, Sharpsville, PA 16150 | http://www.msc.fema.gov/lomc | Oct. 22, 2014 | 420682
Mercer | City of Hermitage (14-03-2041P) | Mr. Gary P. Hinkson, Manager, City of Hermitage, 800 North Hermitage Road, Hermitage, PA 16148 | 800 North Hermitage Road, Hermitage, PA 16148 | http://www.msc.fema.gov/lomc | Oct. 22, 2014 | 421862
Mercer | Township of South Pymatuning (14-03-2041P) | The Honorable Brian Geisel, Chairman, Township of South Pymatuning Board of Supervisors, 3483 Tamarack Drive, Sharpsville, PA 16150 | Township of South Pymatuning, 3483 Tamarack Drive, Sharpsville, PA 16150 | http://www.msc.fema.gov/lomc | Oct. 22, 2014 | 421876
Texas:
Bexar | City of San Antonio (13-06-3277P) | The Honorable Julián Castro, Mayor, City of San Antonio, P.O. Box 839966, San Antonio, TX 78283 | Department of Public Works, Storm Water Engineering, 1901 South Alamo Street, 2nd Floor, San Antonio, TX 78204 | http://www.msc.fema.gov/lomc | Nov. 6, 2014 | 480045
Burnet | City of Horseshoe Bay (13-06-4634P) | The Honorable Steve Jordon, Mayor, City of Horseshoe Bay, P.O. Box 7765, Horseshoe Bay, TX 78657 | City Hall, 1 Community Drive, Horseshoe Bay, TX 78657 | http://www.msc.fema.gov/lomc | Dec. 16, 2014 | 480149
Dallas | City of Coppell (13-06-3463P) | The Honorable Karen Hunt, Mayor, City of Coppell, P.O. Box 9478, Coppell, TX 75019 | 255 Parkway Boulevard, Coppell, TX 75019 | http://www.msc.fema.gov/lomc | Sept. 15, 2014 | 480170
Denton | Town of Flower Mound (14-06-0182P) | The Honorable Thomas Hayden, Mayor, Town of Flower Mound, 2121 Cross Timbers Road, Flower Mound, TX 75028 | Engineering Department, 1001 Cross Timbers Road, Suite 3220, Flower Mound, TX 75028 | http://www.msc.fema.gov/lomc | Oct. 14, 2014 | 480777
El Paso | City of El Paso (14-06-2375P) | The Honorable Oscar Leeser, Mayor, City of El Paso, 300 North Campbell Street, El Paso, TX 79901 | Engineering Department, 222 South Campbell Street, El Paso, TX 79901 | http://www.msc.fema.gov/lomc | Oct. 27, 2014 | 480214
Harris | Unincorporated areas of Harris County (14-06-1909P) | The Honorable Ed M. Emmett, Harris County Judge, 1001 Preston Street, Suite 911, Houston, TX 77002 | Harris County, 10555 Northwest Freeway, Suite 120, Houston, TX 77092 | http://www.msc.fema.gov/lomc | Nov. 5, 2014 | 480287
Kendall | Unincorporated areas of Kendall County (13-06-4074P) | The Honorable Darrel L. Lux, Kendall County Judge, 201 East San Antonio Avenue, Suite 122, Boerne, TX 78006 | Kendall County Development and Floodplain Management Office, 201 East San Antonio Avenue, Suite 101, Boerne, TX 78006 | http://www.msc.fema.gov/lomc | Oct. 6, 2014 | 480417
Llano | Unincorporated areas of Llano County (13-06-4634P) | The Honorable Wayne Brascom, Llano County Judge, 801 Ford Street, Room 101, Llano, TX 78643 | Llano County Courthouse, 801 Ford Street, Llano, TX 78643 | http://www.msc.fema.gov/lomc | Dec. 16, 2014 | 481234
Montgomery | City of Conroe (13-06-3866P) | The Honorable Webb K. Melder, Mayor, City of Conroe, P.O. Box 3066, Conroe, TX 77305 | City Hall, 300 West Davis Street, Conroe, TX 77301 | http://www.msc.fema.gov/lomc | Oct. 29, 2014 | 480484
Tarrant | City of Colleyville (13-06-4370P) | The Honorable David Kelly, Mayor, City of Colleyville, 100 Main Street, Colleyville, TX 76034 | Engineering Division, 100 Main Street, 2nd Floor, Colleyville, TX 76034 | http://www.msc.fema.gov/lomc | Sept. 17, 2014 | 480590
Tarrant | City of Fort Worth (13-06-3819P) | The Honorable Betsy Price, Mayor, City of Fort Worth, 1000 Throckmorton Street, Fort Worth, TX 76102 | Department of Transportation and Public Works, 1000 Throckmorton Street, Fort Worth, TX 76102 | http://www.msc.fema.gov/lomc | Sept. 29, 2014 | 480596
Tarrant | City of Keller (13-06-4370P) | The Honorable Mark Matthews, Mayor, City of Keller, P.O. Box 770, Keller, TX 76244 | City Hall, 1100 Bear Creek Parkway, Keller, TX 76248 | http://www.msc.fema.gov/lomc | Sept. 17, 2014 | 480602
Tarrant | City of Mansfield (14-06-0939P) | The Honorable David L. Cook, Mayor, City of Mansfield, 1200 East Broad Street, Mansfield, TX 76063 | City Hall, 1200 East Broad Street, Mansfield, TX 76063 | http://www.msc.fema.gov/lomc | Oct. 6, 2014 | 480606
Tarrant | City of Southlake (13-06-4370P) | The Honorable John Terrell, Mayor, City of Southlake, 1400 Main Street, Suite 270, Southlake, TX 76092 | Public Works Administration and Engineering, 1400 Main Street, Suite 320, Southlake, TX 76092 | http://www.msc.fema.gov/lomc | Sept. 17, 2014 | 480612
Travis | City of Austin (14-06-0251P) | The Honorable Lee Leffingwell, Mayor, City of Austin, P.O. Box 1088, Austin, TX 78767 | Stormwater Management Division, 505 Barton Springs Road, Suite 908, Austin, TX 78704 | http://www.msc.fema.gov/lomc | Sept. 9, 2014 | 480624
Travis | City of Lakeway (13-06-4373P) | The Honorable Dave DeOme, Mayor, City of Lakeway, 1102 Lohmans Crossing Road, Lakeway, TX 78734 | Floodplain Administrator's Office, 1102 Lohmans Crossing Road, Lakeway, TX 78734 | http://www.msc.fema.gov/lomc | Oct. 17, 2014 | 481303
Virginia:
Arlington | Unincorporated areas of Arlington County (13-03-1764P) | The Honorable Jay Fisette, Chairman, Arlington County Board, 2100 Clarendon Boulevard, Suite 300, Arlington, VA 22201 | Arlington County Department of Environmental Services, 2100 Clarendon Boulevard, Suite 800, Arlington, VA 22201 | http://www.msc.fema.gov/lomc | Oct. 31, 2014 | 515520
City of Falls Church | Independent City of Falls Church (13-03-1764P) | The Honorable David Tarter, Mayor, City of Falls Church, 300 Park Avenue, Suite 300 East, Falls Church, VA 22046 | Department of Public Works, 300 Park Avenue, Suite 100 West, Falls Church, VA 22046 | http://www.msc.fema.gov/lomc | Oct. 31, 2014 | 510054

(Catalog of Federal Domestic Assistance No. 97.022, “Flood Insurance.”)

Dated: August 26, 2014.
Roy E. Wright,
Deputy Associate Administrator for Mitigation, Department of Homeland Security, Federal Emergency Management Agency.

[FR Doc. 2014-21927 Filed 9-12-14; 8:45 am]

BILLING CODE 9110-12-P